DEPARTMENT OF THE INTERIOR

Bureau of Land Management

[LLWO350000.L14300000]

Notice of Availability of Maps and Additional Public Scoping for Programmatic Environmental Impact Statement To Develop and Implement Agency-Specific Programs for Solar Energy Development; Bureau of Land Management Approach for Processing Existing and Future Solar Applications

AGENCY: Bureau of Land Management, Interior.

ACTION: Notice of Availability.

SUMMARY: The Department of Energy (DOE) and the Bureau of Land Management (BLM) (the Agencies) are announcing the availability of maps depicting solar energy study areas to be analyzed in their joint Programmatic Environmental Impact Statement to Develop and Implement Agency-Specific Programs for Solar Energy Development (Solar PEIS) and the opportunity for additional public scoping. The BLM is issuing this Notice to inform the public of the availability of the solar energy study area maps; to solicit public comments for consideration in identifying environmental issues, existing resource data, and industry interest with respect to the solar energy study areas in particular; and to explain how the BLM will address existing and future solar energy development applications on BLM-administered lands.

DATES: The time period for public comments starts with the publication of this notice in the Federal Register and will continue through July 30, 2009. Comments received or postmarked after that date will be considered to the extent practicable.

ADDRESSES: You may submit written comments by the following methods:

• Electronically, using the online comment form available on the project Web site: http://solareis.anl.gov. This is the preferred method of commenting.

• In writing, addressed to: Solar Energy PEIS, Argonne National Laboratory, 9700 S. Cass Avenue—EVS/900, Argonne, IL 60439.

Availability of Maps: Maps of the solar energy study areas are available electronically from the project Web site: http://solareis.anl.gov. The maps may also be obtained from the following BLM offices:

Arizona State Office, One North Central Avenue, Suite 800, Phoenix, AZ 85004.

California State Office, 2800 Cottage Way, Suite W-1623, Sacramento, CA 95825.

Colorado State Office, 2850 Youngfield Street, Lakewood, CO 80215.

Nevada State Office, 1340 Financial Blvd., Reno, NV 89520.

New Mexico State Office, 1474 Rodeo Road, Santa Fe, NM 87505.

Utah State Office, 440 West 200 South, Suite 500, Salt Lake City, UT 84101.

FOR FURTHER INFORMATION CONTACT: For further information contact: Linda Resseguie, BLM Washington Office, linda_resseguie@blm.gov, 202-452-7774; or Lisa Jorgensen, Department of Energy, Golden Field Office, lisa.jorgensen@go.doe.gov, 303-275-4906. You may also visit the Solar PEIS Web site at http://solareis.anl.gov.

SUPPLEMENTARY INFORMATION: On May 29, 2008, the Agencies published a Notice of Intent to Prepare a Programmatic Environmental Impact Statement to Evaluate Solar Energy Development (73 FR 30908). Subsequently, the Agencies held a series of public scoping meetings, received public comments, and published a scoping summary report, available at http://solareis.anl.gov.

On March 11, 2009, the Secretary of the Interior issued Secretarial Order No. 3285, which announced a policy goal of identifying and prioritizing specific locations best suited for large-scale production of solar energy. Also, the BLM received funding from the American Recovery and Reinvestment Act to accelerate permitting of renewable energy projects on public lands. A portion of that funding is being used to enhance the Solar PEIS by enabling in-depth environmental analysis of 24 specific tracts of public lands which have excellent solar development potential and limited resource conflicts.

The Solar PEIS will help BLM identify lands appropriate for solar energy development and establish a comprehensive list of mitigation requirements applicable to all future solar energy development on BLM-administered lands. As part of the Solar PEIS, the Agencies will conduct in-depth environmental analyses of 24 solar energy study areas for the purpose of determining whether such areas should be designated as Solar Energy Zones (SEZs), specific locations determined best suited for large-scale production of solar energy.

The solar energy study areas were identified based on preliminary results of California's Renewable Energy Transmission Initiative, the Western Governors' Association Western Renewable Energy Zone and Transmission Study, and existing BLM resource information. Criteria used to identify solar energy study areas include requirements that the area: be a minimum size of 2,000 acres, be near existing roads and existing or designated transmission line routes, and have a slope of less than 5%. Sensitive resource areas were also removed from consideration, including the following categories of lands:

(1) National Landscape Conservation System lands (except that lands within the California Desert Conservation Area that have no other special designation may be included in a solar energy study area);

(2) Threatened and endangered species designated critical habitat;

(3) Back-country byways;

(4) Areas of known Tribal concern;

(5) Areas of known high cultural site density; and

(6) Areas designated for right-of-way avoidance or right-of-way exclusion in BLM land use plans. Such areas include BLM areas of critical environmental concern, areas with important visual resources, special recreation management areas, areas allocated to maintain wilderness characteristics, wildlife movement corridors, and areas where the BLM has made a commitment to take certain actions with respect to sensitive species habitat.

Some or all of the solar energy study areas may be found appropriate for designation as SEZs as described above. The Agencies are making the maps of the solar energy study areas available to the public and soliciting written comments to provide an opportunity for public input as part of the ongoing Solar PEIS analysis. Specifically, the Agencies request information and comments on the potential for significant impacts of solar energy development on known resources within a solar energy study area and the economic viability of solar energy development within specific areas. No additional public meetings are planned prior to the release of the draft Solar PEIS; however, the public will have additional opportunities to comment when the draft Solar PEIS is released.

The BLM's objective for the Solar PEIS is to create a more efficient process for authorizing solar energy development on public lands that would also:

• Facilitate near-term utility-scale solar energy development on public lands;

• Minimize potential environmental, social, and economic impacts;

• Provide the solar industry flexibility in proposing and developing solar energy projects (location, facility size, technology, etc.);

• Optimize existing transmission corridors; and

• Standardize the authorization process for solar energy development on BLM-administered lands.

The BLM will continue to accept new solar applications. The BLM is in the process of considering alternative procedures, such as non-competitive and competitive, application fees, and diligent development requirements, for solar energy development applications within the solar energy study areas. Any entity with an existing application for lands within the solar energy study areas received by the BLM prior to June 30, 2009 will continue to be processed under the BLM's current procedures. Applications received after June 30, 2009 for lands inside the solar energy study areas will be subject to the Record of Decision (ROD) for the Solar PEIS and any alternative procedures developed by BLM for non-competitive and competitive processes. All applications received for lands outside of the solar energy study areas will be processed under the BLM's current procedures. Any right-of-way grant for a solar energy application issued after the BLM's ROD for the Solar PEIS may be issued subject to the requirements adopted in the ROD.

The Agencies invite interested Federal and State agencies, organizations, Native American tribes and members of the public to submit written comments to assist in identifying significant environmental issues, existing resource data, and industry interest with respect to the solar energy study areas. You may submit comments in writing using one of the methods listed in the “ADDRESSES” section above. Before including your address, phone number, e-mail address, or other personal identifying information in your comment, you should be aware that your entire comments—including your personal identifying information—may be made publicly available at any time. While you can ask us in your comment to withhold your personal identifying information from public review, we cannot guarantee that we will be able to do so.

Mike Pool,
Acting Director, Bureau of Land Management.

[FR Doc. E9-15471 Filed 6-29-09; 8:45 am]

BILLING CODE 4310-84-P